DEPARTMENT OF STATE

[Public Notice: 11392]

Notice of Additions to the CAATSA Guidance

ACTION: Notice of additions to the Countering America's Adversaries Through Sanctions Act of 2017 (CAATSA) Section 231(e) guidance.

SUMMARY: The Secretary of State is updating previously issued guidance pursuant to CAATSA to specify additional persons that are part of, or operate for or on behalf of, the defense and intelligence sectors of the Government of the Russian Federation.

DATES: The updates contained in this notice were effective on March 2, 2021.

FOR FURTHER INFORMATION CONTACT: Thomas W. Zarzecki, Director, Task Force 231, Bureau of International Security and Nonproliferation, Department of State, Washington, DC 20520, tel.: 202-647-7594, ZarzeckiTW@state.gov.

SUPPLEMENTARY INFORMATION: Pursuant to the authority in CAATSA Section 231(e), the Secretary of State is issuing updated guidance specifying the following additional persons that are part of, or operate for or on behalf of, the defense and intelligence sectors of the Government of the Russian Federation:

Section 231(e) List Regarding the Defense Sector of the Government of the Russian Federation

• 27th Scientific Center;

• 48 Central Scientific Research Institute Sergiev Posad (also known as [aka] 48 TsNII Sergiev Posad; aka 48th Central Research Institute, Sergiev Posad);

• 48 Central Scientific Research Institute Kirov (aka 48th Central Research Institute Kirov; aka 48th TsNII);

• 48 Central Scientific Research Institute Yekaterinburg (aka 48th TsNII Yekaterinburg);

• State Scientific Research Institute of Organic Chemistry and Technology (aka GoSNIIOKhT);

• 33rd Scientific Research and Testing Institute (aka 33rd TsNIII);

Gonzalo O. Suarez,
Acting Deputy Assistant Secretary, International Security and Nonproliferation, Department of State.

[FR Doc. 2021-07614 Filed 4-16-21; 8:45 am]

BILLING CODE 4710-27-P